DEPARTMENT OF HEALTH AND HUMAN SERVICES

National Institutes of Health

Center for Scientific Review; Amended Notice of Meeting

Notice is hereby given of a change in the meeting of the Center for Scientific Review Special Emphasis Panel, March 31, 2005, 3 p.m. to March 31, 2005, 4 p.m., National Institutes of Health, 6701 Rockledge Drive, Bethesda, MD 20892 which was published in the Federal Register on March 10, 2005, 70 FR 12000-12001.

The meeting will be held on March 23, 2005, from 11:30 a.m. to 12:30 p.m. The meeting location remains the same.

The meeting is closed to the public.

Dated: March 17, 2005.
LaVerne Y. Stringfield,
Director, Office of Federal Advisory Committee Policy.

[FR Doc. 05-5867 Filed 3-23-05; 8:45 am]

BILLING CODE 4140-01-M